DEPARTMENT OF THE INTERIOR

Bureau of Land Management

[AK-932-1410-FQ; F-012027, F-013539]

Public Land Order No. 7673; Partial Revocation of Public Land Order No. 1396, and Revocation of Public Land Order No. 1996; Alaska

AGENCY: Bureau of Land Management, Interior.

ACTION: Public Land Order.

SUMMARY: This order revokes two public land orders insofar as they affect 118.60 acres of public lands withdrawn from surface entry, mining, and mineral leasing and reserved for use by the Department of the Air Force for military purposes at Fort Yukon. The lands are no longer needed for the purpose for which they were withdrawn.

EFFECTIVE DATE: December 18, 2006.

ADDRESSES: Alaska State Office, Bureau of Land Management, 222 W. Seventh Avenue, #13, Anchorage, Alaska, 99513-7599.

FOR FURTHER INFORMATION CONTACT: Terrie D. Evarts, Bureau of Land Management, Alaska State Office, 222 W. Seventh Avenue, #13, Anchorage, Alaska 99513-7599, 907-271-5630.

SUPPLEMENTARY INFORMATION: The lands have been conveyed out of Federal ownership pursuant to Public Law 107-117 (115 Stat. 2277). This revocation is for record-clearing purposes only.

Order

By virtue of the authority vested in the Secretary of the Interior by Section 204 of the Federal Land Policy and Management Act of 1976, 43 U.S.C. 1714 (2000), it is ordered as follows:

Public Land Order No. 1396 (22 FR 1637, March 14, 1957), and Public Land Order No. 1996 (24 FR 7956, October 2, 1959), which withdrew public lands and reserved them for use of the Department of the Air Force for military purposes, are hereby revoked insofar as they affect the following described lands:

Fairbanks Meridian

U.S. Survey No. 7008, Lot 1, and U.S. Survey No. 7161, Lots 26 and 27, located within

T. 20 N., R. 12 E.

The areas described aggregate 118.60 acres.

Dated: November 21, 2006.
C. Stephen Allred.
Assistant Secretary—Land and Minerals Management.

[FR Doc. E6-21467 Filed 12-15-06; 8:45 am]

BILLING CODE 4310-JA-P